SECURITIES AND EXCHANGE COMMISSION

Sunshine Act Meetings

FEDERAL REGISTER CITATION OF PREVIOUS ANNOUNCEMENT: 88 FR 43639, July 10, 2023.

PREVIOUSLY ANNOUNCED TIME AND DATE OF THE MEETING: Thursday, July 13, 2023 at 2:00 p.m.

CHANGES IN THE MEETING: The following additional matter will also be considered during the Closed Meeting:

• Consideration of amici participation.

CONTACT PERSON FOR MORE INFORMATION: For further information; please contact Vanessa A. Countryman from the Office of the Secretary at (202) 551-5400.

Authority: 5 U.S.C. 552b.

Dated: July 11, 2023.
Vanessa A. Countryman,
Secretary.

[FR Doc. 2023-14986 Filed 7-11-23; 4:15 pm]

BILLING CODE 8011-01-P